ENVIRONMENTAL PROTECTION AGENCY

40 CFR Part 52

[EPA-R09-OAR-2024-0418; FRL-12225-02-R9]

Air Plan Revisions; California; San Diego County Air Pollution Control District and Mojave Desert Air Quality Management District

AGENCY: Environmental Protection Agency (EPA).

ACTION: Final rule.

SUMMARY: The Environmental Protection Agency (EPA) is taking final action to approve revisions to the San Diego County Air Pollution Control District (SDCAPCD) and Mojave Desert Air Quality Management District (MDAQMD) portions of the California State Implementation Plan (SIP). These revisions concern negative declarations for the Control Techniques Guidelines (CTG) for the Oil and Natural Gas Industry (Oil and Natural Gas CTG).

DATES: This rule is effective December 4, 2024.

ADDRESSES: The EPA has established a docket for this action under Docket ID No. EPA-R09-OAR-2024-0418. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information. If you need assistance in a language other than English or if you are a person with a disability who needs a reasonable accommodation at no cost to you, please contact the person identified in the FOR FURTHER INFORMATION CONTACT section.

FOR FURTHER INFORMATION CONTACT: Eugene Chen, EPA Region IX, 75 Hawthorne St., San Francisco, CA 94105. By phone: (415) 947-4304 or by email at chen.eugene@epa.gov.

SUPPLEMENTARY INFORMATION: Throughout this document, “we,” “us,” and “our” refer to the EPA.

Table of Contents

I. Proposed Action

II. Public Comments and EPA Responses

III. EPA Action

IV. Statutory and Executive Order Reviews

I. Proposed Action

On September 23, 2024, the EPA proposed to approve the California Air Resources Board's (CARB) submittal of negative declarations for the Oil and Natural Gas CTG adopted by SDCAPCD and MDAQMD.¹ As discussed in our proposed action, these negative declarations should provide reasonable assurances that no sources subject to the CTG's requirements currently exist in the relevant ozone nonattainment areas. Based on our review, we did not identify any sources that would be subject to the Oil and Natural Gas CTG and agreed with the SDCAPCD and MDAQMD negative declarations. We therefore proposed approval of these negative declarations for the Oil and Natural Gas CTG.

¹ 89 FR 77467.

Table 1—Submitted Documents
Local agency | Document | Adopted | Submitted to EPA
SDCAPCD | 2020 Reasonably Available Control Technology Demonstration for the National Ambient Air Quality Standards for Ozone in San Diego County (“2020 RACT SIP”)—Negative Declaration for Oil and Natural Gas CTG | 10/14/2020 | 12/29/2020
MDAQMD | 70 ppb Ozone Standard Implementation Evaluation: RACT SIP Analysis; Federal Negative Declarations; and Emission Statement Certification—Negative Declaration for Oil and Natural Gas CTG | 10/28/2019 | 12/20/2019

As discussed in our September 23, 2024 (89 FR 77467) proposal, we only proposed action on the negative declaration for the Oil and Natural Gas CTG in Attachment B of the SDCAPCD submittal and did not propose action on any other elements of the submittal. Similarly, for the MDAQMD submittal, we only proposed action on the negative declaration for the Oil and Natural Gas CTG in table 2 and did not propose action on any other elements of the submittal. In both cases, the negative declarations for the Oil and Natural Gas CTG were submitted for the 2008 and 2015 ozone National Ambient Air Quality Standards (NAAQS).2 3

² Page 10 of MDAQMD 70 ppb O3 Evaluation, Final Staff Report.

³ Page B-10 of SDCAPCD 2020 RACT SIP, Attachment B.

II. Public Comments and EPA Responses

The EPA's proposed action provided a 30-day public comment period. During this period, we received four comments. We have summarized these comments and included our responses below.

Comment 1: One commenter inquired about grants for the electrification of equipment on small farms and included information regarding a certain model of electric tractor deployed in Europe.

Response 1: Our proposed action is related to oil and natural gas sources located in certain California air districts. We do not consider this comment to be germane because it is beyond the scope of our proposed action.

Comment 2: One commenter expressed general support for the proposed action and urged the EPA to adopt the proposed rulemakings.

Response 2: The EPA acknowledges the comment.

Comment 3: One commenter urged the EPA to take action to regulate cannabis growth. The commenter asserts that cannabis cultivation is responsible for significant emissions of greenhouse gases and that cannabis plants themselves are a source of terpenes, which are VOCs that “when mixed with nitrogen oxide and sunlight, form ozone-degrading aerosols.”

Response 3: We acknowledge the information provided by the commenter regarding the potential for the cannabis cultivation industry to be a source of greenhouse gas emissions and VOCs. As noted in our response to Comment 1 of this preamble above, our proposed action is related to oil and natural gas sources located in certain California air districts. As a result, we do not consider this comment to be germane because it is beyond the scope of our proposed action.

Comment 4: One commenter opposes the EPA action on the proposed rulemakings. The commenter notes the need for ozone regulation in southwest California under the 2008 and 2015 ozone NAAQS because “the ozone emitted by the oil and natural gas industries has a stronger impact than in more temperate regions.” The commenter suggests that “providing a bulwark against accelerated ozone production from [these] sources is paramount” and concludes by stating “if the SDCAPCD, MDAQMD and EPA sign onto the negative decision to include oil and natural gas industries in these portions of the California SIP, the problem of ground-level ozone will not be fully resolved.”

Response 4: We acknowledge the commenters concerns regarding ozone levels in southwest California and attainment of the 2008 and 2015 ozone NAAQS for the areas at issue in the EPA's proposed action. However, we disagree with the commenter that the proposed action will negatively impact ozone emissions in the areas at issue. We wish to clarify that the EPA's proposed action involves a negative declaration, not a negative decision. As discussed above and in our proposed action, the negative declarations from SDCAPCD and MDAQMD represent their certifications that there are no sources subject to the Oil and Natural Gas CTG present in their jurisdictions. A negative declaration does not exempt sources from regulation, and if sources subject to the Oil and Natural Gas CTG subsequently came to exist in either of the Districts, CAA sections 182(b)(2) and (f) would require that District to adopt control measures implementing RACT for the CTG.⁴

⁴ In a separate action earlier this year, the EPA proposed to approve a California statewide regulation into the California SIP for those areas that need to regulate sources covered by the Oil and Natural Gas CTG. See 89 FR 36729 (May 3, 2024).

III. EPA Action

None of the comments submitted change our assessment of the SIP revision as described in the proposed action at issue. Therefore, as authorized in section 110(k)(3) of the Act, the EPA is approving SDCAPCD's and MDAQMD's negative declarations for the Oil and Natural Gas CTG because they fulfill the relevant requirements in CAA sections 110(a), 110(l), and 182(b)(2). In addition, our approval of SDCAPCD's negative declaration terminates the EPA's obligation to promulgate a Federal Implementation Plan (FIP) for SDCAPCD arising from our November 16, 2020 finding of failure to submit for the Oil and Natural Gas CTG.⁵

⁵ November 16, 2020. 85 FR 72963. Our November 16, 2020 finding of failure to submit also triggered offset sanctions and highway funding sanctions. These sanctions clocks were extinguished by SDCAPCD's December 29, 2020 submittal and our May 6, 2021 letter determining that the District's negative declaration submittal was complete. See Docket Item B-01.

IV. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve State choices, provided that they meet the criteria of the Clean Air Act. Accordingly, this action merely approves State law as meeting Federal requirements and does not impose additional requirements beyond those imposed by State law. For that reason, this action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

In addition, the SIP is not approved to apply on any Indian reservation land or in any other area where the EPA or an Indian tribe has demonstrated that a tribe has jurisdiction. In those areas of Indian country, the rule does not have Tribal implications and will not impose substantial direct costs on Tribal governments or preempt Tribal law as specified by Executive Order 13175 (65 FR 67249, November 9, 2000).

Executive Order 12898 (Federal Actions To Address Environmental Justice in Minority Populations and Low-Income Populations, 59 FR 7629, February 16, 1994) directs Federal agencies to identify and address “disproportionately high and adverse human health or environmental effects” of their actions on communities with environmental justice (EJ) concerns to the greatest extent practicable and permitted by law. The EPA defines EJ as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.”

The Districts did not evaluate EJ considerations as part of its SIP submittal; the CAA and applicable implementing regulations neither prohibit nor require such an evaluation. The EPA did not perform an EJ analysis and did not consider EJ in this action. Due to the nature of the action being taken here, this action is expected to have a neutral to positive impact on the air quality of the affected area. Consideration of EJ is not required as part of this action, and there is no information in the record inconsistent with the stated goals of Executive Order 12898 of achieving EJ for communities with EJ concerns.

This action is subject to the Congressional Review Act (CRA), and the EPA will submit a rule report to each House of the Congress and to the Comptroller General of the United States. This action is not a “major rule” as defined by 5 U.S.C. 804(2).

Under section 307(b)(1) of the Clean Air Act, petitions for judicial review of this action must be filed in the United States Court of Appeals for the appropriate circuit by January 3, 2025. Filing a petition for reconsideration by the Administrator of this final rule does not affect the finality of this rule for the purposes of judicial review, nor does it extend the time within which a petition for judicial review may be filed, and it shall not postpone the effectiveness of such rule or action. This action may not be challenged later in proceedings to enforce its requirements (see section 307(b)(2)).

List of Subjects in 40 CFR Part 52

Environmental protection, Air pollution control, Incorporation by reference, Intergovernmental relations, Ozone, Reporting and recordkeeping requirements, Volatile organic compounds.

Authority: 42 U.S.C. 7401 et seq.

Dated: October 29, 2024.
Martha Guzman Aceves,
Regional Administrator, Region IX.

For the reasons stated in the preamble, the Environmental Protection Agency amends part 52, chapter I, title 40 of the Code of Federal Regulations as follows:

PART 52—APPROVAL AND PROMULGATION OF IMPLEMENTATION PLANS

1. The authority citation for part 52 continues to read as follows:

Authority: 42 U.S.C. 7401 et seq.

Subpart F—California

2. Amend § 52.222 by adding paragraph (a)(1)(x) and revising paragraphs (a)(5)(ii) and (iii) to read as follows.

§ 52.222 Negative declarations.

* * * * *

(a) * * *

(1) * * *

(x) The following negative declaration for the 2008 ozone standard and 2015 ozone standard was adopted by the District on October 28, 2019, and submitted to EPA on December 20, 2019: EPA Control Techniques Guidelines for the Oil and Natural Gas Industry (453/B-16-001).

* * * * *

(5) * * *

(ii) The following negative declarations for the 2008 ozone NAAQS were adopted by the San Diego County Air Pollution Control District.

CTG document No. | Title | Adopted: 12/14/2016 Submitted: 4/12/2017 SIP approved: 12/03/2020 | Adopted: 10/14/2020 Submitted: 12/29/2020 SIP approved: 6/29/2022 | Adopted: 10/14/2020 Submitted: 12/29/2020 SIP approved: 1/17/2023 | Adopted: 10/14/2020 Submitted: 12/29/2020 SIP approved: 11/4/2024
(A) EPA-450/2-77-008 | Control of Volatile Organic Emissions from Existing Stationary Sources—Volume II: Surface Coating of Cans, Coils, Paper, Fabrics, Automobiles, and Light-Duty Trucks (Automobiles, and light-duty truck coatings only) | X
(B) EPA-450/2-77-025 | Control of Refinery Vacuum Producing Systems, Wastewater Separators, and Process Unit Turnarounds | X
(C) EPA-450/2-77-032 | Control of Volatile Organic Emissions from Existing Stationary Sources—Volume III: Surface Coating of Metal Furniture | X
(D) EPA-450/2-77-033 | Control of Volatile Organic Emissions from Existing Stationary Sources—Volume IV: Surface Coating of Insulation of Magnet Wire | X
(E) EPA-450/2-77-034 | Control of Volatile Organic Emissions from Existing Stationary Sources—Volume V: Surface Coating of Large Appliances | X
(F) EPA-450/2-78-029 | Control of Volatile Organic Emissions from Manufacture of Synthesized Pharmaceutical Products |  | X
(G) EPA-450/2-78-030 | Control of Volatile Organic Emissions from Manufacture of Pneumatic Rubber Tires | X
(H) EPA-450/2-78-032 | Control of Volatile Organic Emissions from Existing Stationary Sources—Volume VII: Factory Surface Coating of Flat Wood Paneling | X
(I) EPA-450/2-78-036 | Control of Volatile Organic Compound Leaks from Petroleum Refinery Equipment | X
(J) EPA-450/3-82-009 | Control of Volatile Organic Compound Emissions from Large Petroleum Dry Cleaners | X
(K) EPA-450/3-83-006 | Control of Volatile Organic Compound Leaks from Synthetic Organic Chemical Polymer and Resin Manufacturing Equipment | X
(L) EPA-450/3-83-007 | Control of Volatile Organic Compound Equipment Leaks from Natural Gas/Gasoline Processing Plants | X
(M) EPA-450/3-83-008 | Control of Volatile Organic Compound Emissions from Manufacture of High-Density Polyethylene, Polypropylene, and Polystyrene Resins | X
(N) EPA-450/3-84-015 | Control of Volatile Organic Compound Emissions from Air Oxidation Processes in Synthetic Organic Chemical Manufacturing Industry | X
(O) EPA-450/4-91-031 | Control of Volatile Organic Compound Emissions from Reactor Processes and Distillation Operations in Synthetic Organic Chemical Manufacturing Industry | X
(P) EPA-453/R-97-004 | Control of Volatile Organic Compound Emissions from Coating Operations at Aerospace Manufacturing and Rework Operations Aerospace MACT, see the Federal Register of 6/6/94 | X
(Q) EPA-453/R-06-004 | Control Techniques Guidelines for Flat Wood Paneling Coatings | X
(R) EPA 453/R-07-004 | Control Techniques Guidelines for Large Appliance Coatings | X
(S) EPA 453/R-07—005 | Control Techniques Guidelines for Metal Furniture Coatings | X
(T) EPA-453/R-08-003 | Control Techniques Guidelines for Miscellaneous Metal and Plastic Parts Coatings Tables 3-6 |  | X
(U) EPA-453/R-08-004 | Control Techniques Guidelines for Fiberglass Boat Manufacturing Materials |  | X
(V) EPA-453/R-08-006 | Control Techniques Guidelines for Automobile and Light-Duty Truck Assembly Coatings | X
(W) —N/A— | Major non-CTG VOC sources |  |  | X
(X) EPA-453/B-16-001). | Control Techniques Guidelines for the Oil and Natural Gas Industry |  |  |  | X

(iii) The following negative declarations for the 2015 ozone NAAQS were adopted by the San Diego County Air Pollution Control District.

CTG document No. | Title | Adopted: 10/14/2020 Submitted: 12/29/2020 SIP approved: 6/29/2022 | Adopted: 10/14/2020 Submitted: 12/29/2020 SIP approved: 11/4/2024
(A) EPA-450/2-78-029 | Control of Volatile Organic Emissions from Manufacture of Synthesized Pharmaceutical Products | X
(B) EPA-453/R-08-003 | Control Techniques Guidelines for Miscellaneous Metal and Plastic Parts Coatings Tables 3-6 | X
(C) EPA-453/R-08-004 | Control Techniques Guidelines for Fiberglass Boat Manufacturing Materials | X
(D) EPA-453/B-16-001) | Control Techniques Guidelines for the Oil and Natural Gas Industry |  | X

* * * * *

[FR Doc. 2024-25560 Filed 11-1-24; 8:45 am]

BILLING CODE 6560-50-P